DEPARTMENT OF THE TREASURY

Office of Thrift Supervision

[AC-37: OTS No. H-47111]

ViewPoint Financial Group, Inc., Plano, Texas; Approval of Conversion Application

Notice is hereby given that on May 6, 2010, the Office of Thrift Supervision approved the application of ViewPoint MHC and ViewPoint Bank, Plano, Texas, to convert to the stock form of organization. Copies of the application are available for inspection by appointment (phone number: 202-906-5922 or e-mail Public.Info@OTS.Treas.gov) at the Public Reading Room, 1700 G Street, NW., Washington, DC 20552, and the OTS Western Regional Office, 225 E. John Carpenter Freeway, Suite 500, Irving, Texas 75062-2326.

Dated: May 7, 2010.
By the Office of Thrift Supervision.
Sandra E. Evans,
Federal Register Liaison.

[FR Doc. 2010-11283 Filed 5-12-10; 8:45 am]

BILLING CODE 6720-01-M